DEPARTMENT OF THE INTERIOR

Bureau of Reclamation

Definition and Payback of Inadvertent Overruns for Delivery of Lower Colorado River Water; Notice of Extension of Public Comment Period

AGENCY: Bureau of Reclamation, Interior.

ACTION: Notice of public comment period extension.

SUMMARY: Reclamation published a Notice of public comment period in the Federal Register, (66 FR 4856), on January, 18, 2001, requesting comments on a proposed policy that will identify inadvertent overruns, establish procedures that account for inadvertent overruns, and define subsequent payback requirements to the Colorado River mainstream. This notice extends the original comment period, as identified below in the DATES section.

DATES: The comment period for receiving comments on the proposed policy regarding definition and payback of inadvertent overruns for delivery of Lower Colorado River water, has been extended from March 24, 2001, to April 10, 2001.

FOR FURTHER INFORMATION CONTACT: If you wish to comment, you may mail comments to Deputy Area Manager, Boulder Canyon Operations Office, Lower Colorado Region, Bureau of Reclamation, BCOO-1010, PO Box 61470, Boulder City, Nevada 89006. You may also comment via the Internet at InadvertentOverrun@lc.usbr.gov. If you comment via the Internet, please submit comments as an ASCII file avoiding the use of special characters and any form of encryption. If you do not receive a confirmation via e-mail that we have received your Internet message, please contact us directly at (702) 293-8592.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Mr. John Redlinger, (702) 293-8592.

SUPPLEMENTARY INFORMATION: The period for receiving public comments on the proposed inadvertent overrun policy, described in detail in the Federal Register dated January 18, 2001, (66 FR 4856), has been extended until April 10, 2001. The comment period has been extended in response to several requests, and because Reclamation intends to prepare an environmental impact statement that will evaluate the potential environmental effects of implementing the inadvertent overrun policy (see the Notice of intent to prepare an environmental impact statement (EIS) and initiation of scoping process for the “Implementation Agreement for Secretarial Actions Associated with California Parties' Proposed Quantification Settlement Agreement and other Related Federal Actions, including Implementation of an Inadvertent Overrun Policy, Lower Colorado River, Arizona, California, and Nevada,” elsewhere in this Federal Register. The public scoping comment period for this EIS ends on April 10, 2001. Comments received on the inadvertent overrun policy will also be taken into consideration during the scoping process for the EIS.

Dated: March 2, 2001.
Lorri J. Gray,
Assistant Regional Director.

[FR Doc. 01-5907 Filed 3-8-01; 8:45 am]

BILLING CODE 4310-MN-P